DEPARTMENT OF COMMERCE

International Trade Administration

[C-489-819]

Steel Concrete Reinforcing Bar From the Republic of Turkey: Final Results of Countervailing Duty Administrative Review and Rescission, in Part; 2018

AGENCY: Enforcement and Compliance, International Trade Administration, Department of Commerce.

SUMMARY: The Department of Commerce (Commerce) determines that certain producers/exporters of steel concrete reinforcing bar (rebar) from the Republic of Turkey (Turkey) received countervailable subsidies during the period of review (POR) January 1, 2018, through December 31, 2018. Additionally, we are rescinding the review for 21 companies with no shipments of subject merchandise to the United States during the POR.

DATES: Applicable September 27, 2021.

FOR FURTHER INFORMATION CONTACT: Konrad Ptaszynski, AD/CVD Operations, Office I, Enforcement and Compliance, International Trade Administration, U.S. Department of Commerce, 1401 Constitution Avenue NW, Washington, DC 20230; telephone: (202) 482-6187, respectively.

SUPPLEMENTARY INFORMATION:

Background

Commerce published the Preliminary Results of this review on March 25, 2021,¹ and invited comments from interested parties. On June 25, 2021, Commerce extended the deadline to issue the final results of this review until September 21, 2021.² For a complete description of the events that occurred since the Preliminary Results, see the Issues and Decision Memorandum.³

¹ See Steel Concrete Reinforcing Bar from the Republic of Turkey: Preliminary Results of Countervailing Duty Administrative Review and Intent To Rescind in Part; 2018, 86 FR 15921 (March 25, 2021) (Preliminary Results), and accompanying Preliminary Decision Memorandum.

² See Memorandum, “Steel Concrete Reinforcing Bar from the Republic of Turkey: Extension of Deadline for Final Results of Countervailing Duty Administrative Review; 2018,” dated June 25, 2021.

³ See Memorandum, “Issues and Decision Memorandum for the Final Results of the 2018 Administrative Review of the Countervailing Duty Order of Steel Concrete Reinforcing Bar from the Republic of Turkey,” dated concurrently with, and hereby adopted by, this notice (Issues and Decision Memorandum).

Scope of the Order ⁴

⁴ See Steel Concrete Reinforcing Bar from the Republic of Turkey: Countervailing Duty Order, 79 FR 65926 (November 6, 2014) (Order).

The merchandise covered by the Order is steel concrete reinforcing bar (rebar). For a complete description of the scope, see the Issues and Decision Memorandum.

Analysis of Comments Received

All issues raised in the case and rebuttal briefs filed by interested parties in this review are listed in the appendix to this notice and addressed in the Issues and Decision Memorandum. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/.

Changes Since the Preliminary Results

Based on a review of the record and comments received from interested parties regarding our Preliminary Results, and for the reasons explained in the Issues and Decision Memorandum, we made certain changes for these final results of review.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁵ For a description of the methodology underlying all of Commerce's conclusions, see the Issues and Decision Memorandum.

⁵ See sections 771(5)(B) and (D) of the Act regarding financial contribution; section 771(5)(E) of the Act regarding benefit; and section 771(5A) of the Act regarding specificity.

Rescission of Administrative Review, in Part

It is Commerce's practice to rescind an administrative review of a countervailing duty order, pursuant to 19 CFR 351.213(d)(3), when there are no reviewable entries of subject merchandise during the POR for which liquidation is suspended.⁶ Normally, upon completion of an administrative review, the suspended entries are liquidated at the countervailing duty assessment rate calculated for the review period.⁷ Therefore, for an administrative review of a company to be conducted, there must be a reviewable, suspended entry that Commerce can instruct U.S. Customs and Border Protection (CBP) to liquidate at the calculated countervailing duty assessment rate calculated for the review period.⁸

⁶ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁷ See 19 CFR 351.212(b)(2).

⁸ See 19 CFR 351.213(d)(3).

According to the CBP import data, except for the two mandatory respondents and two other companies (Colakoglu Dis Ticaret A.S. and Colakoglu Metalurji A.S.), the remaining 21 companies subject to this review did not have reviewable entries of subject merchandise during the POR for which liquidation is suspended.⁹ Because there is no evidence on the record of this segment of the proceeding to indicate that these companies had entries, exports, or sales of subject merchandise to the United States during the POR, we are rescinding the administrative review with respect to these companies consistent with 19 CFR 351.213(d)(3).

⁹ The 21 companies are: (1) Acemar International Limited; (2) A G Royce Metal Marketing; (3) Agir Haddecilik A.S; (4) As Gaz Sinai ve Tibbi Gazlar A.S.; (5) Asil Celik Sanayi ve Ticaret A.S.; (6) Atakas Celik Sanayi ve Ticaret A.S.; (7) Bastug Metalurji Sanayi AS; (8) Demirsan Haddecilik Sanayi Ve Ticaret AS; (9) Diler Dis Ticaret AS; (10) Duferco Investment Services SA; (11) Duferco Celik Ticaret Limited; (12) Ege Celik Endustrisi Sanayi ve Ticaret A.S.; (13) Ekinciler Demir ve Celik Sanayi Anonim Sirketi; (14) Habas Sinai ve Tibbi Gazlar Istihsal Endustrisi A.S. (Habas); (15) Izmir Demir Celik Sanayi A.S.; (16) Kibar Dis Ticaret A.S.; (17) Kocaer Haddecilik Sanayi ve Ticar; (18) Mettech Metalurji Madencilik Muhendislik Uretim Danismanlik ve Ticaret Limited Sirketi; (19) MMZ Onur Boru Profil A.S.; (20) Ozkan Demir Celik Sanayi A.S.; and (21) Wilmar Europe Trading B.V.

Rate for Non-Selected Companies Under Review

There are two companies for which a review was requested but which were not selected as mandatory respondents or found to be cross-owned with a mandatory respondent. Because the rate calculated for the mandatory respondent, Kaptan, was above de minimis and not based entirely on facts available, we applied the subsidy rate calculated for Kaptan to these two non-selected companies. This methodology for establishing the subsidy rate for the non-selected companies is consistent with our practice and with section 705(c)(5)(A) of the Act.

Final Results of the Administrative Review

We find the following net countervailable subsidy rates for the POR January 1, 2018, through December

Company | Subsidy rate (percent ad valorem)
Icdas Celik Enerji Tersane ve Ulasim Sanayi A.S. and its cross-owned affiliates ¹⁰ | 0.32 (de minimis)
Kaptan Demir Celik Endustrisi ve Ticaret A.S. and Kaptan Metal Dis Ticaret ve Nakliyat A.S. and their cross-owned affiliates ¹¹ | 1.82
Colakoglu Dis Ticaret A.S. | 1.82
Colakoglu Metalurji A.S. | 1.82

Disclosure 31, 2018:

¹⁰ Commerce finds the following companies to be cross-owned with Icdas: Mardas Marmara Deniz Isletmeciligi A.S.; Oraysan Insaat Sanayi ve Ticaret A.S.; Artim Demir Insaat Turizm Sanayi Ticaret Ltd. Sti.; Anka Entansif Hayvancilik Gida Tarim Sanayi ve Ticaret A.S.; Karsan Gemi Insaa Sanayi Ticaret A.S.; Artmak Denizcilik Ticaret Ve Sanayi A.S.; and Eras Tasimacilik Taahhut Ins.Tic.A.S.

¹¹ Commerce finds the following companies to be cross-owned with Kaptan: Martas Marmara Ereglisi Liman Tesisleri A.S.; Aset Madencilik A.S.; Kaptan Is Makinalari Hurda Alim Satim Ltd. Sti.; Efesan Demir San. Ve Tic. A.S.; and Nur Gemicilik ve Tic. A.S.

Commerce intends to disclose the calculations and analysis performed for these final results of review within five days of the date of publication of this notice in the Federal Register, in accordance with 19 CFR 351.224(b).

Assessment Requirements

In accordance with section 751(a)(2)(C) of the Act and 19 CFR 351.212(b)(2), Commerce shall determine, and CBP shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act, and 19 CFR 351.213(d)(4) and 19 CFR 351.221(b)(5).

Dated: September 21, 2021.
Christian Marsh,
Acting Assistant Secretary for Enforcement and Compliance.

Appendix

List of Topics Discussed in the Issues and Decision Memorandum

I. Summary

II. Background

III. Scope of the Order

IV. Rescission of Administrative Review, In Part

V. Subsidies Valuation Information

VI. Analysis of Programs

VII. Discussion of the Issues

Comment 1: Whether Commerce Should Countervail Import Duty Exemptions Under the Inward Processing Regime (IPR) Program

Comment 2: Whether Commerce Should Countervail the Provision of Lignite for Less than Adequate Remuneration (LTAR)

Comment 3: Whether Commerce Should Countervail the Provision of Natural Gas for LTAR

Comment 4: Whether Commerce Should Revise the Sales Denominators That It Used in the Preliminary Results for Icdas and Kaptan

Comment 5: Whether Commerce Should Revise its Finding that Nur Gemicilik ve Tic. A.S. (Nur) is a Cross-Owned Input Supplier

Comment 6: Whether Commerce Should Revise Its Finding That Nur's Land Rent Exemption is Countervailable

Comment 7: Whether Commerce Should Reduce Its Calculation of Benefits Attributed to Icdas for Renewable Energy Sources Support Mechanism (YEKDEM) Support by the Amount Reclaimed

Comment 8: Whether Commerce Should Revise Its Benchmark Interest Rate Calculations to Include All Short-Term Commercial Loans in Effect During the POR

VIII. Recommendation

[FR Doc. 2021-20906 Filed 9-24-21; 8:45 am]

BILLING CODE 3510-DS-P